DEPARTMENT OF DEFENSE

Office of the Secretary

32 CFR Part 199

[Docket ID: DoD-2020-HA-0040; and DoD-2020-HA-0050]

RIN 0720-AB81; 0720-AB82; and 0720-AB83

TRICARE Coverage and Reimbursement of Certain Services Resulting From Temporary Program Changes in Response to the COVID-19 Pandemic; Correction

AGENCY: Office of the Assistant Secretary of Defense for Health Affairs, Department of Defense (DoD).

ACTION: Final rule; correction.

SUMMARY: The DoD is correcting a final rule that appeared in the Federal Register on June 1, 2022. The Assistant Secretary of Defense for Health Affairs issued this final rule related to certain provisions of three TRICARE interim final rules (IFRs) with request for comments issued in 2020 in response to the novel coronavirus disease 2019 (COVID-19) public health emergency (PHE). Subsequent to publication of the final rule, DoD discovered an error in the preamble. This document corrects that error.

DATES: This final rule correction is effective on July 1, 2022.

FOR FURTHER INFORMATION CONTACT: Erica Ferron, Defense Health Agency, Medical Benefits and Reimbursement Section, 303-676-3626 or erica.c.ferron.civ@mail.mil. Sharon Seelmeyer, Defense Health Agency, Medical Benefits and Reimbursement Section, 303-676-3690 or Sharon.l.seelmeyer.civ@mail.mil, Diagnosis Related Groups, Hospital Value Based Purchasing, Long Term Care Hospitals, and New Technology Add-On Payments.

SUPPLEMENTARY INFORMATION: In FR Doc. 2022-10545 appearing at 87 FR 33001-33015 in the Federal Register of Wednesday, June 1, 2022, the following corrections are made: On page 33007, in the third column, in section III.B.a.1, correct the first paragraph to read: “The IFR temporarily waived the regulatory requirement that an individual be an inpatient of a hospital for not less than three consecutive calendar days before discharge from the hospital (three-day prior hospital stay) for coverage of a SNF admission for the duration of the COVID-19 national emergency, consistent with a similar waiver under Medicare and TRICARE's statutory requirement to have a SNF benefit like Medicare's. The waiver will terminate when the President's national emergency for COVID-19 is terminated.”

Dated: June 2, 2022.
Aaron T. Siegel,
Alternate OSD Federal Register Liaison Officer, Department of Defense.

[FR Doc. 2022-12263 Filed 6-7-22; 8:45 am]

BILLING CODE 5001-06-P